GENERAL SERVICES ADMINISTRATION

[Notice-MA-2025-18; Docket No. 2025-0002; Sequence No. 16]

Maximum Per Diem Reimbursement Rates for the Continental United States (CONUS)

AGENCY: Office of Government-wide Policy (OGP), General Services Administration (GSA).

ACTION: Notice of GSA Per Diem Bulletin FTR 26-01, Fiscal Year (FY) 2026 CONUS per diem reimbursement rates.

SUMMARY: For FY 2026, GSA is maintaining the FY 2025 per diem rates to provide for reimbursement of Federal employees' subsistence expenses while on official travel.

DATES:

Applicability Date: This notice applies to travel performed on or after October 1, 2025, through September 30, 2026.

FOR FURTHER INFORMATION CONTACT: For clarification of content, contact Mr. Alexander Kurien, Deputy Associate Administrator, Office of Government-wide Policy, at 202-495-9628 or by email at travelpolicy@gsa.gov. Please cite Notice of GSA Per Diem Bulletin FTR 26-01.

SUPPLEMENTARY INFORMATION: The CONUS per diem reimbursement rates prescribed in Federal Travel Regulation (FTR) Bulletin 26-01 may be found at https://www.gsa.gov/perdiem. If a maximum lodging allowance rate and/or a meals and incidental expenses (M&IE) per diem reimbursement rate is insufficient to meet necessary expenses in any given CONUS location, agencies can request that GSA review that location per 41 CFR 301-11.26. Additional information on the special review process is available at https://www.gsa.gov/perdiem under the “FAQs” tab. Further, the FTR allows for actual expense reimbursement as provided in §§ 301-11.300 through 301-11.306.

For FY 2026, no new non-standard area (NSA) locations are added. The maximum lodging allowance rates in existing per diem localities remain at FY 2025 levels, and the standard lodging rate also remains unchanged at $110. The M&IE reimbursement rate tiers for FY 2026 are unchanged at $68-$92, and the standard M&IE rate is unchanged at $68.

Other than the changes posted on the GSA website, notices published periodically in the Federal Register now constitute the only notification of revisions in CONUS per diem reimbursement rates to agencies.

Larry Allen,
Associate Administrator, Office of Government-wide Policy.

[FR Doc. 2025-15771 Filed 8-18-25; 8:45 am]

BILLING CODE 6820-14-P